DEPARTMENT OF ENERGY

Federal Energy Regulatory Commission

Combined Notice of Filings # 1

Take notice that the Commission received the following exempt wholesale generator filings:

Docket Numbers: EG24-13-000.

Applicants: St. Gall Energy Storage I LLC.

Description: St. Gall Energy Storage I LLC submits Notice of Self-Certification of Exempt Wholesale Generator Status.

Filed Date: 10/18/23.

Accession Number: 20231018-5151.

Comment Date: 5 p.m. ET 11/8/23.

Docket Numbers: EG24-14-000.

Applicants: Silver Peak Energy, LLC.

Description: Silver Peak Energy, LLC submits Notice of Self-Certification of Exempt Wholesale Generator Status.

Filed Date: 10/19/23.

Accession Number: 20231019-5091.

Comment Date: 5 p.m. ET 11/9/23.

Take notice that the Commission received the following Complaints and Compliance filings in EL Dockets:

Docket Numbers: EL24-4-000.

Applicants: Greenbacker Renewable Energy Company LLC, Greenbacker Renewable Energy Company II, LLC.

Description: Petition for Declaratory Order of Greenbacker Renewable Energy Company LLC and Greenbacker Renewable Energy Company II, LLC.

Filed Date: 10/16/23.

Accession Number: 20230919-5132.

Comment Date: 5 p.m. ET 11/15/23.

Take notice that the Commission received the following electric rate filings:

Docket Numbers: ER14-874-006.

Applicants: Calpine Bethlehem, LLC.

Description: Compliance filing: Informational Filing Regarding Upstream Transfer of Ownership to be effective N/A.

Filed Date: 10/19/23.

Accession Number: 20231019-5117.

Comment Date: 5 p.m. ET 11/9/23.

Docket Numbers: ER14-875-006.

Applicants: Calpine Mid-Atlantic Generation, LLC.

Description: Compliance filing: Informational Filing Regarding Upstream Transfer of Ownership to be effective N/A.

Filed Date: 10/19/23.

Accession Number: 20231019-5124.

Comment Date: 5 p.m. ET 11/9/23.

Docket Numbers: ER17-2566-005.

Applicants: Calpine Mid-Atlantic Generation, LLC.

Description: Compliance filing: Informational Filing Regarding Upstream Transfer of Ownership to be effective N/A.

Filed Date: 10/19/23.

Accession Number: 20231019-5130.

Comment Date: 5 p.m. ET 11/9/23.

Docket Numbers: ER23-2020-002.

Applicants: California Independent System Operator Corporation.

Description: Compliance filing: 2023-10-19 Amendment to Compliance Filing—Market Parameters to be effective 9/13/2023.

Filed Date: 10/19/23.

Accession Number: 20231019-5102.

Comment Date: 5 p.m. ET 11/9/23.

Docket Numbers: ER23-2040-002.

Applicants: New York Independent System Operator, Inc.

Description: Tariff Amendment: NYISO Amendment re: DER Participation Model effective date to be effective 12/18/2023.

Filed Date: 10/18/23.

Accession Number: 20231018-5158.

Comment Date: 5 p.m. ET 11/8/23.

Docket Numbers: ER23-2459-001.

Applicants: Alabama Power Company, Georgia Power Company, Mississippi Power Company.

Description: Tariff Amendment: Alabama Power Company submits tariff filing per 35.17(b): Seminole Solar Projects (Seminole V Solar + BESS) LGIA Deficiency Response to be effective 7/10/2023.

Filed Date: 10/19/23.

Accession Number: 20231019-5061.

Comment Date: 5 p.m. ET 11/9/23.

Docket Numbers: ER23-2460-001.

Applicants: Alabama Power Company, Georgia Power Company, Mississippi Power Company.

Description: Tariff Amendment: Alabama Power Company submits tariff filing per 35.17(b): Seminole Solar Projects (Seminole VI Solar + BESS) LGIA Deficiency Response to be effective 7/10/2023.

Filed Date: 10/19/23.

Accession Number: 20231019-5062.

Comment Date: 5 p.m. ET 11/9/23.

Docket Numbers: ER23-2461-001.

Applicants: Alabama Power Company, Georgia Power Company, Mississippi Power Company.

Description: Tariff Amendment: Alabama Power Company submits tariff filing per 35.17(b): Seminole Solar Projects (Seminole VII Solar + BESS) LGIA Deficiency Response to be effective 7/10/2023.

Filed Date: 10/19/23.

Accession Number: 20231019-5063.

Comment Date: 5 p.m. ET 11/9/23.

Docket Numbers: ER23-2462-001.

Applicants: Alabama Power Company, Georgia Power Company, Mississippi Power Company.

Description: Tariff Amendment: Alabama Power Company submits tariff filing per 35.17(b): Seminole Solar Projects (Seminole VIII Solar + BESS) LGIA Deficiency Response to be effective 7/10/2023.

Filed Date: 10/19/23.

Accession Number: 20231019-5064.

Comment Date: 5 p.m. ET 11/9/23.

Docket Numbers: ER24-142-000.

Applicants: Black Hills Power, Inc.

Description: § 205(d) Rate Filing: Revisions to BHP—BH Wyoming GDEMA to be effective 12/18/2023.

Filed Date: 10/18/23.

Accession Number: 20231018-5133.

Comment Date: 5 p.m. ET 11/8/23.

Docket Numbers: ER24-143-000.

Applicants: Black Hills Power, Inc.

Description: § 205(d) Rate Filing: Revisions to BHP—BHCE GDEMA to be effective 12/18/2023.

Filed Date: 10/18/23.

Accession Number: 20231018-5136.

Comment Date: 5 p.m. ET 11/8/23.

Docket Numbers: ER24-144-000.

Applicants: Black Hills Power, Inc.

Description: § 205(d) Rate Filing: Revisions to BHP—CLFP GDEMA to be effective 12/18/2023.

Filed Date: 10/18/23.

Accession Number: 20231018-5138.

Comment Date: 5 p.m. ET 11/8/23.

Docket Numbers: ER24-145-000.

Applicants: Black Hills Power, Inc.

Description: § 205(d) Rate Filing: Revisions to BHP—Gillette GDEMA to be effective 12/18/2023.

Filed Date: 10/18/23.

Accession Number: 20231018-5141.

Comment Date: 5 p.m. ET 11/8/23.

Docket Numbers: ER24-146-000.

Applicants: Black Hills Power, Inc.

Description: § 205(d) Rate Filing: Revisions to BHP—MDU GDEMA to be effective 3/7/2021.

Filed Date: 10/18/23.

Accession Number: 20231018-5148.

Comment Date: 5 p.m. ET 11/8/23.

Docket Numbers: ER24-147-000.

Applicants: PJM Interconnection, L.L.C.

Description: Tariff Amendment: Notice of Cancellation of WMPA, SA No. 6790; Queue No. AF2-175 Re: Withdrawal to be effective 12/19/2023.

Filed Date: 10/19/23.

Accession Number: 20231019-5026.

Comment Date: 5 p.m. ET 11/9/23.

Docket Numbers: ER24-148-000.

Applicants: PacifiCorp.

Description: Tariff Amendment: Termination of Black Hills Non-Conforming PTP Agreement (SA 67) to be effective 12/31/2023.

Filed Date: 10/19/23.

Accession Number: 20231019-5041.

Comment Date: 5 p.m. ET 11/9/23.

Docket Numbers: ER24-149-000.

Applicants: Citizens Sunrise Transmission LLC.

Description: § 205(d) Rate Filing: Annual Operating Cost True-Up Adjustment Informational—2023 to be effective 1/1/2024.

Filed Date: 10/19/23.

Accession Number: 20231019-5053.

Comment Date: 5 p.m. ET 11/9/23.

Docket Numbers: ER24-150-000.

Applicants: Citizens Sycamore-Penasquitos Transmission LLC.

Description: § 205(d) Rate Filing: Annual Operating Cost True-Up Adjustment Informational—2023 to be effective 1/1/2024.

Filed Date: 10/19/23.

Accession Number: 20231019-5054.

Comment Date: 5 p.m. ET 11/9/23.

Docket Numbers: ER24-151-000.

Applicants: Alabama Power Company, Georgia Power Company, Mississippi Power Company.

Description: § 205(d) Rate Filing: Alabama Power Company submits tariff filing per 35.13(a)(2)(iii: Pachuta Solar A (Solar & ESS) LGIA Amendment Filing to be effective 10/4/2023.

Filed Date: 10/19/23.

Accession Number: 20231019-5065.

Comment Date: 5 p.m. ET 11/9/23.

Docket Numbers: ER24-152-000.

Applicants: American Electric Power Service Corporation, PJM Interconnection, L.L.C.

Description: § 205(d) Rate Filing: American Electric Power Service Corporation submits tariff filing per 35.13(a)(2)(iii: AEP submits one Facilities Agreement re ILDSA SA No. 5120 to be effective 1/1/2024.

Filed Date: 10/19/23.

Accession Number: 20231019-5073.

Comment Date: 5 p.m. ET 11/9/23.

Docket Numbers: ER24-153-000.

Applicants: Willowbrook Solar I, LLC.

Description: Baseline eTariff Filing: Application for Market Based Rate Authority to be effective 11/13/2023.

Filed Date: 10/19/23.

Accession Number: 20231019-5086.

Comment Date: 5 p.m. ET 11/9/23.

Docket Numbers: ER24-154-000.

Applicants: BCE Los Alamitos, LLC.

Description: Compliance filing: Notice of Change in Status and Request for Cat 1 Seller Status in the SW Region to be effective 10/20/2023.

Filed Date: 10/19/23.

Accession Number: 20231019-5108.

Comment Date: 5 p.m. ET 11/9/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 19, 2023.
Kimberly D. Bose,
Secretary.

[FR Doc. 2023-23585 Filed 10-24-23; 8:45 am]

BILLING CODE 6717-01-P